DEPARTMENT OF JUSTICE

Foreign Claims Settlement Commission

[F.C.S.C. Meeting and Hearing Notice No. 11-11]

Sunshine Act Meeting

The Foreign Claims Settlement Commission, pursuant to its regulations (45 CFR 503.25) and the Government in the Sunshine Act (5 U.S.C. 552b), hereby gives notice in regard to the scheduling of open meetings as follows:

Friday, October 28, 2011

10 a.m. Oral hearing on objection to Commission's Proposed Decision in Claim No. LIB-II-016

11 a.m. Issuance of Proposed Decisions in claims against Libya

Status: Open.

All meetings are held at the Foreign Claims Settlement Commission, 600 E Street, NW., Washington, DC. Requests for information, or advance notices of intention to observe an open meeting, may be directed to: Judith H. Lock, Executive Officer, Foreign Claims Settlement Commission, 600 E Street, NW., Suite 6002, Washington, DC 20579. Telephone: (202) 616-6975.

Jaleh F. Barrett,
Chief Counsel.

[FR Doc. 2011-27321 Filed 10-18-11; 4:15 pm]

BILLING CODE 4410-BA-P